DEPARTMENT OF DEFENSE

Department of the Army

Notice of Intended Disinterment

AGENCY: Department of the Army, DoD.

ACTION: Notice of intended disinterment.

SUMMARY: The Office of Army Cemeteries (OAC) is honoring the requests of the Rosebud Sioux family members and an Aleut family member to disinter the human remains of 10 Native American students from the Carlisle Barracks Post Cemetery, Carlisle, Pennsylvania. The decedent names are: Sophia Tetoff from the Alaskan Aleut; and from the Rosebud Sioux: Lucy Take the Tail (Pretty Eagle); Rose Long Face (Little Hawk); Ernest Knocks Off (White Thunder); Dennis Strikes First (Blue Tomahawk); Maud Little Girl (Swift Bear); Friend Hollow Horn Bear; Warren Painter (Bear Paints Dirt); Alvan (Kills Seven Horses); Dora Her Pipe (Brave Bull). These students died between 1880 and 1910 while attending the Carlisle Indian Industrial School. At the request of the closest living relative for each decedent, OAC will disinter and facilitate the transport and reinterment of the remains in private cemeteries chosen by the families at government expense. This disinterment will be conducted in accordance with Army Regulation 290-5. This is not a Native American Graves Protection and Repatriation Act (NAGPRA) action because the remains are not part of a collection. They are interred in graves that are individually marked at the Carlisle Barracks Post Cemetery.

DATES: The disinterment is scheduled to begin on June 14, 2021. Transportation to and re-interment in private cemeteries will take place as soon as practical after the disinterment. If other living relatives object to the disinterment of these remains, please provide written objection to Lieutenant Colonel Scott Tasler or Captain Jason Netteler at the email addresses listed below prior to May 1st, 2021. Such objections may delay the disinterment for the decedent in question.

ADDRESSES: Objections from family members and public comments can be mailed to Lieutenant Colonel Scott Tasler or Captain Jason Netteler, OAC Project Managers, 1 Memorial Avenue, Arlington, VA 22211 or emailed to usarmy.pentagon.hqda-anmc.mbx.accountability-coe@mail.mil (preferred).

FOR FURTHER INFORMATION CONTACT: Lieutenant Colonel Scott Tasler or Captain Jason Netteler OAC Project Managers at the email address listed above.

SUPPLEMENTARY INFORMATION: Additional information related to Native Americans buried at the Carlisle Barracks Post Cemetery can be found at https://armycemeteries.army.mil/Cemeteries/Carlisle-Barracks-Main-Post-Cemetery.

James W. Satterwhite Jr.,
Army Federal Register Liaison Officer.

[FR Doc. 2021-06784 Filed 4-1-21; 8:45 am]

BILLING CODE 5001-03-P